DEPARTMENT OF DEFENSE

[USN-2007-0040]

United States Marine Corps; Privacy Act of 1974; System of Records

AGENCY: United States Marine Corps, DoD.

ACTION: Notice to add a records system.

SUMMARY: The U.S. Marine Corps is adding a system of records notice from its inventory of records systems subject to the Privacy Act of 1974, as amended (5 U.S.C. 552a).

DATES: The addition will be effective on August 15, 2007 unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The proposed system report, as required by 5 U.S.C. 552a(r) of the Privacy Act of 1974, as amended, was submitted on July 5, 2007, to the House Committee on Oversight and Government Reform, the Senate Committee on Governmental Affairs, and the Office of Management and Budget (OMB) pursuant to paragraph 4c of Appendix I to OMB Circular No. A-130, ‘Federal Agency Responsibilities for Maintaining Records About Individuals,' dated February 8, 1996 (February 20, 1996, 61 FR 6427).

Dated: July 9, 2007.
C.R. Choate,
Alternate OSD Federal Register Liaison Officer, Department of Defense.

M05100-6

System Name:

Camp Lejeune Historic Drinking Water Notification Registry.

System Location:

Headquarters U.S. Marine Corps (I&L LFL), 2 Navy Annex, Room 3109, Washington, DC 20380-1775.

Categories of Individuals Covered By the System:

U.S. Service Members (active, reserve, retired, and separated), military dependents, Federal government employees, and civilian personnel who were/are stationed, live(d), or were/are employed aboard Marine Corps Base Camp Lejeune, NC which may have been exposed to contaminated drinking water between 1957 to 1987. Additionally, any person interested in the Camp Lejeune contaminated drinking water issue.

Categories of Records In the System:

Name, current address, phone number, e-mail address, date, address, and duty status while living or working on Camp Lejeune.

Authority For Maintenance of the System:

10 U.S.C. 5041, Headquarters, U.S. Marine Corps.

Purpose(s):

The purpose of this system is to maintain contact information of people who may have been exposed to contaminated drinking water while living or working on Camp Lejeune as well as other parties who are interested in the issue. This information will be used to provide notifications and updated information of such persons.

Routine Uses of Records Maintained In the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the U.S. Marine Corps' compilation of systems of records notices apply to this system.

Policies and Practices For Storing, Retrieving, Accessing, Retaining, and Disposing of Records In the System:

Storage:

Electronic storage media.

Retrievability:

Individual's name.

Safeguards:

The Registry's servers are located in a secure area at Headquarters U.S. Marine Corps. Access to the database containing registry records will be controlled and restricted by Headquarters U.S. Marine Corps personnel through Public Key Infrastructure encryption and User ID permission levels. Public users will only be able input address/contact data into the registry and will not be able to retrieve any data.

Retention and Disposal:

Records will be kept for two years then destroyed.

System Manager(s) and Address:

Environmental Officer, Headquarters U.S. Marine Corps (I&L LFL), 2 Navy Annex, Room 3109, Washington, DC 20380-1775.

Notification Procedure:

Individuals seeking to determine whether information about themselves is contained in this system should address written inquiries to the Commandant of Marine Corps, Headquarters U.S. Marine Corps (I&L LFL), 2 Navy Annex, Room 3109, Washington, DC 20380-1775.

Written requests should contain full name and must be signed.

Record Access Procedures:

Individuals seeking access to additional information about themselves contained in this system should address written inquiries to the Commandant of Marine Corps, Headquarters U.S. Marine Corps (I&L LFL), 2 Navy Annex, Room 3109, Washington, DC 20380-1775.

Written requests should contain full name and must be signed.

Contesting Record Procedures:

The Navy's rules for accessing records, and for contesting contents and appealing initial agency determinations are published in Secretary of the Navy Instruction 5211.5; 32 CFR part 701; or may be obtained from the system manager.

Record Source Categories:

Individuals.

Exemptions Claimed For the System:

None.

[FR Doc. E7-13710 Filed 7-13-07; 8:45 am]

BILLING CODE 5001-06-P